SECURITIES AND EXCHANGE COMMISSION

[File No. 500-1]

In the Matter of Cedar Creek Mines Ltd., General Kinetics Incorporated, ProDigital Film Studios, Inc. (a/k/a ProDigital Film Labs, Inc.), SendTec, Inc., and Specialized Services, Inc. (n/k/a Exergetic Energy, Inc.); Order of Suspension of Trading

April 30, 2015.

It appears to the Securities and Exchange Commission that there is a lack of current and accurate information concerning the securities of Cedar Creek Mines Ltd. because it has not filed any periodic reports since the period ended February 28, 2011.

It appears to the Securities and Exchange Commission that there is a lack of current and accurate information concerning the securities of General Kinetics Incorporated because it has not filed any periodic reports since the period ended November 30, 2005.

It appears to the Securities and Exchange Commission that there is a lack of current and accurate information concerning the securities of ProDigital Film Studios, Inc. (a/k/a ProDigital Film Labs, Inc.) because it has not filed any periodic reports since the period ended June 30, 2005.

It appears to the Securities and Exchange Commission that there is a lack of current and accurate information concerning the securities of SendTec, Inc. because it has not filed any periodic reports since the period ended September 30, 2008.

It appears to the Securities and Exchange Commission that there is a lack of current and accurate information concerning the securities of Specialized Services, Inc. (n/k/a Exergetic Energy, Inc.) because it has not filed any periodic reports since the period ended September 30, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on April 30, 2015, through 11:59 p.m. EDT on May 13, 2015.

By the Commission.
Jill M. Peterson,
Assistant Secretary.

[FR Doc. 2015-10438 Filed 4-30-15; 11:15 am]

BILLING CODE 8011-01-P